DEPARTMENT OF AGRICULTURE

Forest Service

Ashley National Forest Resource Advisory Committee

AGENCY: Forest Service, USDA.

ACTION: Notice of meeting cancellation.

SUMMARY: The Ashley National Forest Resource Advisory Committee was scheduled to meet on November 10, 2011 from 6 to 8 p.m. in the Forest Supervisor's Office located at 355 North Vernal Avenue, Vernal Utah 84078. The committee is authorized under the Secure Rural Schools and Community Self-Determination Act (Pub. L. 110-343) (the Act) and operates in compliance with the Federal Advisory Committee Act. The committee's charter expired in October 2011 and its renewal is under review by the Secretary of Agriculture. In compliance with the Federal Advisory Committee Act the committee will not be meeting until the charter is renewed.

DATES: The cancelled meeting was scheduled for Wednesday, November 10, 2011, from 6 to 8 p.m.

ADDRESSES: The cancelled meeting would have been held at the Forest Supervisor's Office, 355 North Vernal Avenue, Vernal, Utah 84078. Written comments concerning this cancellation may be submitted to the Designated Federal Officer.

All comments, including names and addresses when provided, are placed in the record and are available for public inspection and copying. The public may inspect comments received at 355 Vernal Avenue, Vernal, Utah 84078. Please call ahead to (435) 781-5105 to facilitate entry into the building to view comments.

FOR FURTHER INFORMATION CONTACT: JoEllen Keil, Acting Designated Federal Officer, Ashley National Forest, 355 North Vernal Avenue, Vernal, Utah 84078: Telephone: (435) 781-5136 or email at: jkeil@fs.fed.us.

Individuals who use telecommunication devices for the deaf (TDD) may call the Federal Information Relay Service (FIRS) at 1-(800) 877-8339 between 8 a.m. and 8 p.m., Eastern Standard Time, Monday through Friday.

Dated: October 27, 2011.
JoEllen Keil,
Acting Forest Supervisor.

[FR Doc. 2011-28668 Filed 11-4-11; 8:45 am]

BILLING CODE 3410-11-M